DEPARTMENT OF TRANSPORTATION

Surface Transportation Board

[Docket No. AB 43 (Sub—No. 185X)]

Illinois Central Railroad Company—Discontinuance of Trackage Rights Exemption—in Madison, Yazoo, Holmes, Carroll, Montgomery, Grenada, Yalobusha, Tallahatchie, Panola, Tate, and Desoto Counties, MS

Illinois Central Railroad Company (IC) ¹ has filed a verified notice of exemption under 49 CFR pt.1152 subpart F—Exempt Abandonments and Discontinuances of Service to discontinue its limited overhead trackage rights over approximately 175.4 miles of rail line known as the Grenada Line, owned by Grenada Railway LLC (GRYR),² extending between milepost 403.0 at Southaven and milepost 703.8 near Canton, in Madison, Yazoo, Holmes, Carroll, Montgomery, Grenada, Yalobusha, Tallahatchie, Panola, Tate, and Desoto Counties, Miss.³ The line traverses United States Postal Service Zip Codes 39046, 39179, 39146, 39079, 39063, 39192, 39176, 38967, 38925, 38926, 38960, 38901, 38953, 38961, 38948, 38927, 38658, 38620, 38606, 38666, 38619, 38668, 38618, 38632, 38651, 38637, and 38671.

¹ IC is a wholly owned, indirect subsidiary of Canadian National Railway Company and is a Class I rail carrier.

² On September 20, 2011, GRYR filed a petition for exemption in Docket No. AB 1087X, Grenada Railway, LLC—Abandonment Exemption—in Grenada, Montgomery, Carroll, Holmes, Yazoo, & Madison Counties, Miss., to abandon an 81.3-mile portion of the Grenada Line from milepost 622.5 near Grenada, Miss., to milepost 703.8 near Canton, Miss. Notice instituting that proceeding was served and published in the Federal Register on October 7, 2011 (76 FR 62497-98), and a final decision will be issued by January 6, 2012.

³ IC notes that it acquired these trackage rights from GRYR by virtue of IC's retention of the trackage rights upon its sale of the Grenada Line to GRYR. See Gren. Ry.—Acq. & Op. Exemp.—Ill. Cent. R.R. & Waterloo Ry., FD 35247 (STB served May 29, 2009).

IC has certified that: (1) No local traffic has moved via its trackage rights over the line for at least 2 years; (2) any overhead traffic that could be handled via those trackage rights over the line can be rerouted over other lines; (3) no formal complaint filed by a user of IC's trackage rights over the line (or by a state or local government entity acting on behalf of such user) regarding cessation of IC service over the line either is pending with the Surface Transportation Board or with any U.S. District Court or has been decided in favor of complainant within the 2-year period; and (4) the requirements at 49 CFR 1105.12 (newspaper publication), and 49 CFR 1152.50(d)(1) (notice to governmental agencies) have been met.

As a condition to this exemption, any employee adversely affected by the discontinuance of service shall be protected under Oregon Short Line Railroad—Abandonment Portion Goshen Branch Between Firth & Ammon, in Bingham & Bonneville Counties, Idaho, 360 I.C.C. 91 (1979). To address whether this condition adequately protects affected employees, a petition for partial revocation under 49 U.S.C. 10502(d) must be filed.

Provided no formal expression of intent to file an offer of financial assistance (OFA) has been received, this exemption will be effective on November 17, 2011, unless stayed pending reconsideration. Petitions to stay that do not involve environmental issues and formal expressions of intent to file an OFA for continued rail service under 49 CFR 1152.27(c)(2) ⁴ must be filed by October 28, 2011.⁵ Petitions to reopen must be filed by November 7, 2011, with the Surface Transportation Board, 395 E Street, SW., Washington, DC 20423-0001.

⁴ Each OFA must be accompanied by the filing fee, which currently is set at $1,500. See 49 CFR 1002.2(f)(25).

⁵ Because this is a discontinuance proceeding and not an abandonment, trail use/rail banking and public use conditions are not appropriate. Likewise, no environmental or historic documentation is required here under 49 CFR 1105.6(c) and 49 CFR 1105.8(b), respectively.

A copy of any petition filed with the Board should be sent to IC's representative: Jeremy M. Berman, Fletcher & Sippel LLC, 29 North Wacker Drive, Suite 920, Chicago, IL, 60606-2832.

If the verified notice contains false or misleading information, the exemption is void ab initio.

Board decisions and notices are available on our Web site at “http://WWW.STB.DOT.gov.”

Decided: October 13, 2011.
By the Board,
Rachel D. Campbell,
Director, Office of Proceedings.
Jeffrey Herzig,
Clearance Clerk.

[FR Doc. 2011-26903 Filed 10-17-11; 8:45 am]

BILLING CODE 4915-01-P